ENVIRONMENTAL PROTECTION AGENCY

[EPA-HQ-OPPT-2015-0273; FRL 9946-99-OEI]

Agency Information Collection Activities; Submitted to OMB for Review and Approval; Comment Request; TSCA Section 5(a)(2) Significant New Use Rules for Existing Chemicals

AGENCY: Environmental Protection Agency (EPA).

ACTION: Notice.

SUMMARY: EPA has submitted the following information collection request (ICR) to the Office of Management and Budget (OMB) for review and approval in accordance with the Paperwork Reduction Act (PRA): “TSCA Section 5(a)(2) Significant New Use Rules for Existing Chemicals” (EPA ICR No. 1188.13, OMB Control No. 2070-0038). This is a request to renew the approval of an existing ICR. EPA received two comments in response to the previously provided public review opportunity issued in the Federal Register on September 2, 2015 (80 FR 53151), which are addressed in this ICR. With this submission, EPA is providing an additional 30 days for public review.

DATES: Comments must be received on or before August 25, 2016.

ADDRESSES: Submit your comments, identified by Docket ID Number EPA-HQ-OPPT-2015-0273, to both EPA and OMB as follows:

To EPA online using http://www.regulations.gov (our preferred method) or by mail to: EPA Docket Center, Environmental Protection Agency, Mail Code 28221T, 1200 Pennsylvania Ave. NW., Washington, DC 20460, and

To OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Colby Lintner, Environmental Assistance Division (7408M), Office of Pollution Prevention and Toxics, Environmental Protection Agency, 1200 Pennsylvania Ave. NW., Washington, DC 20460; telephone number: (202) 554-1404; email address: TSCA-Hotline@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is currently scheduled to expire on July 31, 2016. Under OMB regulations, the Agency may continue to conduct or sponsor the collection of information while this submission is pending at OMB.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: Section 5 of the Toxic Substances Control Act (TSCA) provides EPA with a regulatory mechanism to monitor and, if necessary, control significant new uses of chemical substances. Section 5 authorizes EPA to determine by rule (i.e., a significant new use rule or SNUR), after considering all relevant factors, that a use of a chemical substance represents a significant new use. If EPA determines that a use of a chemical substance is a significant new use, section 5 requires persons to submit a significant new use notice (SNUN) to EPA at least 90 days before they manufacture, import, or process the substance for that use.

EPA uses the information obtained through this collection to evaluate the health and environmental effects of the significant new use. EPA may take regulatory actions under TSCA section 5, 6 or 7 to control the activities for which it has received a SNUR notice. These actions include orders to limit or prohibit the manufacture, importation, processing, distribution in commerce, use or disposal of chemical substances. If EPA does not take action, section 5 also requires EPA to publish a Federal Register notice explaining the reasons for not taking action. This information collection addresses the reporting and recordkeeping requirements inherent in TSCA section 5 significant new use rules.

Respondents may claim all or part of their submission as confidential. EPA will disclose information that is covered by a claim of confidentiality only to the extent permitted by, and in accordance with, the procedures in TSCA section 14 and 40 CFR part 2.

Form Numbers: EPA Form No. 7710-25.

Respondents/affected entities: Entities potentially affected by this ICR are companies that manufacture, process, import, or distribute in commerce chemical substances or mixtures.

Respondent's obligation to respond: Mandatory (40 CFR part 721).

Estimated number of respondents: 6 (total).

Frequency of response: On occasion.

Total estimated burden: 1,025 hours (per year). Burden is defined at 5 CFR 1320.03(b).

Total estimated cost: $100,595 (per year), includes $0 annualized capital or operation & maintenance costs.

Changes in the Estimates: There is an increase of 289 hours in the total estimated respondent burden compared with the ICR currently approved by OMB. This increase reflects EPA's updating the number of affected sites, the average number of SNUNs submitted annually, recalculating the average number of chemicals per SNUR, and correcting rounding errors in the burden estimate for completing a SNUN and rule familiarization. This change is an adjustment.

Authority: 44 U.S.C. 3501 et seq.

Courtney Kerwin,
Acting Director, Collections Strategies Division.

[FR Doc. 2016-17515 Filed 7-25-16; 8:45 am]

BILLING CODE 6560-50-P